PENSION BENEFIT GUARANTY CORPORATION

29 CFR Chapter XL

Regulatory Planning and Review of Existing Regulations

AGENCY: Pension Benefit Guaranty Corporation.

ACTION: Request for information.

SUMMARY: The Pension Benefit Guaranty Corporation (PBGC) is asking for input on what regulatory and deregulatory actions it should be considering as part of its regulatory program. PBGC is committed to a program that provides clear and helpful guidance, minimizes burdens and maximizes benefits, and addresses ineffective and outdated rules. This initiative supports PBGC's ongoing regulatory planning and active retrospective review of regulations and responds to the President's executive order on “Enforcing the Regulatory Reform Agenda.”

DATES: PBGC requests that comments be received on or before August 25, 2017 to be assured of consideration.

ADDRESSES: Comments, identified by “Regulatory Planning and Review,” may be submitted by any of the following methods:

• Federal eRulemaking Portal: http://www.regulations.gov. Follow the Web site instructions for submitting comments.

• Email: reg.comments@pbgc.gov.

• Mail or Hand Delivery: Regulatory Affairs Group, Office of the General Counsel, Pension Benefit Guaranty Corporation, 1200 K Street NW., Washington, DC 20005-4026.

Comments received, including personal information provided, will be posted to www.pbgc.gov. Copies of comments may also be obtained by writing to Disclosure Division, Office of the General Counsel, Pension Benefit Guaranty Corporation, 1200 K Street NW., Washington, DC 20005-4026, or calling 202-326-4040 during normal business hours. (TTY and TDD users may call the Federal relay service toll-free at 1-800-877-8339 and ask to be connected to 202-326-4040.)

FOR FURTHER INFORMATION CONTACT: Stephanie Cibinic, Deputy Assistant General Counsel for Regulatory Affairs, Office of the General Counsel, Pension Benefit Guaranty Corporation, 1200 K Street NW., Washington DC 20005-4026; cibinic.stephanie@pbgc.gov; 202-326-4400 extension 6352. (TTY and TDD users may call the Federal relay service toll-free at 800-877-8339 and ask to be connected to 202-326-4400 extension 6352.)

SUPPLEMENTARY INFORMATION:

Background

The Pension Benefit Guaranty Corporation (PBGC) is a federal corporation created under the Employee Retirement Income Security Act of 1974 (ERISA) to guarantee the payment of pension benefits earned by nearly 40 million American workers and retirees in nearly 24,000 private-sector defined benefit pension plans. PBGC administers two insurance programs—one for single-employer defined benefit pension plans and a second for multiemployer defined benefit pension plans. Each program is operated and financed separately from the other, and assets from one cannot be used to support the other. PBGC receives no funds from general tax revenues. Operations are financed by insurance premiums, investment income, assets from pension plans trusteed by PBGC, and recoveries from the companies formerly responsible for the trusteed plans.

To carry out its mission, PBGC issues regulations interpreting or implementing ERISA on such matters as: how to pay premiums, when reports are due, what benefits are covered by the insurance program, how to terminate a plan, the liability for underfunding, and how multiemployer plan withdrawal liability works. Regulatory objectives and priorities are developed in the context of PBGC's statutory purposes:

• To encourage the continuation and maintenance of voluntary private pension plans;

• To provide for the timely and uninterrupted payment of pension benefits; and

• To keep premiums at the lowest possible levels consistent with carrying out PBGC's obligations under title IV of ERISA.

PBGC intends to issue regulations consistent with its statutory mission of implementing the law and encouraging the continuation and maintenance of defined benefit plans. Thus, PBGC attempts to minimize administrative burdens on plans and participants, improve transparency, simplify filing, provide relief for small businesses, and assist plans to comply with applicable requirements. PBGC is committed to issuing simple, understandable, and timely regulations that help affected parties. PBGC looks to maximize net benefits and actively reviews regulations to identify and ameliorate inconsistencies, inaccuracies, and requirements made irrelevant over time, with the goal that net cost impact is zero or less overall.

PBGC develops its regulatory planning and review under a series of executive orders. E.O. 12866 (issued in 1993) and E.O. 13563 (issued in 2011) direct agencies to assess all costs and benefits of available regulatory alternatives and, if regulation is necessary, to select regulatory approaches that maximize net benefits. E.O. 13563 also calls for the periodic review of existing regulations to identify any that can be made more effective or less burdensome in achieving regulatory objectives. E.O. 13771 (issued in January 2017) seeks to reduce regulatory requirements and control regulatory costs. This executive order was followed by E.O. 13777 (issued in February 2017), which calls for a Regulatory Reform Task Force (RRTF) in each agency to evaluate existing regulations and make recommendations regarding their “repeal, replacement, or modification, consistent with applicable law.” In evaluating regulations, the RRTF should ask for input from persons and entities affected by such regulations.

Request for Input

With an eye toward the Fall iteration of the semi-annual regulatory agenda, PBGC is requesting information, suggestions, and comment from the public—including from plan sponsors, participants, practitioners, organizations representing retirees and plan participants, and other parties participating in or affected by PBGC's programs—on regulatory and deregulatory actions PBGC should take.

To facilitate this request for information, PBGC developed the questions below, the answers to which will help determine whether there are gaps in regulatory guidance where the public believes rulemaking would be beneficial, and help PBGC evaluate the continued effectiveness and usefulness of existing regulations.

To maximize the effectiveness of comments, PBGC suggests that commenters:

• Clearly identify the regulation at issue, providing the Code of Federal Regulations (CFR) citation where available;

• Explain, in as much detail as possible, why they believe regulating in a specific area is necessary or beneficial, or why an existing rule may be outdated, unnecessary, or ineffective; and

• Describe the costs and benefits of taking a particular regulatory or deregulatory action and the data or experience on which the commenter bases a recommendation.

1. Are there areas where PBGC rulemaking or other guidance would clarify or ease the burden of certain statutory requirements on the public? Would tools such as regulatory safe harbors help plans and sponsors comply with applicable requirements, and if so, what areas particularly would benefit from safe harbors?

2. Are there challenges affecting the establishment and maintenance of pension plans or other aspects of the private pension plan system that should be addressed through rulemaking or other guidance?

3. Are there regulations PBGC should modernize that have become outdated? If so, what type of change (e.g., innovations in technology, business or actuarial practices, consumer (worker and retiree) needs) has caused the rules to become outdated? How would PBGC modernize such rules?

4. What, if any, technological developments would relieve the administrative burden of an existing regulation or existing information collection?

5. Are there regulations establishing programs or processes that have not operated as well as expected? If so, what specifically has not worked and why?

6. Are there regulations that are unnecessarily complicated which could be streamlined to achieve regulatory objectives more efficiently?

7. Does PBGC have regulations or information collections (e.g., forms, reports, or notices) that are duplicative or that have conflicting requirements with other agencies, such as the Department of the Treasury, Internal Revenue Service, or Department of Labor?

8. Does PBGC ask for information in forms or on reports that may be stale, duplicative, or unnecessary to achieve a particular statutory purpose or regulatory objective? Are there PBGC-required notices from plans to third parties (such as plan participants) that ask for or relay duplicative information?

9. Has PBGC issued any significant guidance documents (e.g., technical updates, policy statements) that may be outdated, ineffective, or unnecessary to achieve a particular statutory purpose or regulatory objective?

10. Are there regulations that could be tailored to impose less burden on the public? If so, what could be alternative regulatory or other approaches to such rules?

11. Are there regulations that are unnecessary and could be repealed or replaced without impairing a PBGC program's statutory purpose?

12. Are there PBGC regulations that eliminate jobs, or inhibit job creation?

13. Are there any other areas where PBGC could improve its regulations to better accomplish its mission?

These questions are not intended to be exhaustive. Commenters may raise other issues or make suggestions unrelated to these questions that they believe would help PBGC develop a better and more responsive regulatory structure.

Issued in Washington, DC.
W. Thomas Reeder,
Director, Pension Benefit Guaranty Corporation.

[FR Doc. 2017-15551 Filed 7-25-17; 8:45 am]

BILLING CODE 7709-02-P